ENVIRONMENTAL PROTECTION AGENCY

40 CFR Part 51

[EPA-HQ-OAR-2005-0175; FRL-8049-7]

Extension of Public Comment Period for Proposed Rule on the Transition to New or Revised Particulate Matter (PM) National Ambient Air Quality Standards (NAAQS)

AGENCY: Environmental Protection Agency (EPA).

ACTION: Extension of public comment period.

SUMMARY: The EPA is announcing a 90-day extension of the public comment period for the proposed “Transition to New or Revised Particulate Matter (PM); National Ambient Air Quality Standards (NAAQS).” As initially published in the Federal Register on February 9, 2006 written comments on the advance proposal for rulemaking were to be submitted to EPA on or before April 10, 2006 (a 60-day public comment period). Since publication, EPA has received several requests for additional time to submit comments. Therefore, the public comment period is being extended for 90 days and will now end on July 10, 2006. This extension is based on the fact that the PM NAAQS will not be finalized until September 27, 2006.

DATES: The public comment period for this proposed rule is extended to July 10, 2006.

FOR FURTHER INFORMATION CONTACT: For questions regarding PM implementation issues, contact Ms. Barbara Driscoll, U.S. Environmental Protection Agency, Office of Air Quality Planning and Standards, Mail Code C504-05, Research Triangle Park, NC 27711, phone number (919) 541-1051 or by e-mail at: driscoll.barbara@epa.gov. Questions regarding the new source review issues contact Raj Rao, U.S. Environmental Protection Agency, Office of Air Quality Planning and Standards, Mail Code C504-03, Research Triangle Park, NC 27711, phone number (919) 541-5344 or by e-mail at: rao.raj@epa.gov.

SUPPLEMENTARY INFORMATION:

I. General Information

A. Extension of Public Comment Period

The proposed rule was signed by the Administrator on February 3, 2006 and published in the Federal Register on February 9, 2006 (71 FR 6718). The EPA has received several requests for additional time to comment on the proposal. Since the 60-day public comment period would have concluded on April 10, 2006, EPA has decided to extend the comment period until July 10, 2006 based on the fact that the PM NAAQS will not be promulgated until September 27, 2006.

B. How Can I Get Copies of This Document and Other Related Information?

1. Docket. The EPA has established a docket for this action under Docket ID No. EPA-HQ-OAR-2005-0175. Publicly available docket materials are available either electronically through http://www.regulations.gov or in hard copy at the EPA Docket Center, located at 1301 Constitution Avenue, NW., Room B102, Washington, DC between 8:30 a.m. and 4:30 p.m., Monday through Friday, excluding legal holidays. The telephone number for the Public Reading Room is (202) 566-1744, and the telephone number for the Docket is (202) 566-1742. A reasonable fee may be charged for copying.

2. Electronic Access. You may access this Federal Register document electronically through the EPA Internet under the “Federal Register” listings at http://www.epa.gov/fedrgstr/. Also, the advance notice of proposed rulemaking was published in the Federal Register on February 9, 2006 and is available at http://www.epa.gov/air/particlepollution/actions.html.

Dated: March 14, 2006.
Jeffrey S. Clark,
Acting Director, Office of Air Quality Planning and Standards.

[FR Doc. E6-4369 Filed 3-24-06; 8:45 am]

BILLING CODE 6560-50-P